DEPARTMENT OF LABOR

Employment and Training Administration

[TA-W-80,219]

Beacon Medical Services, LLC, Aurora, CO; Notice of Negative Determination Regarding Application for Reconsideration

By application received July 25, 2011, a worker requested administrative reconsideration of the negative determination regarding workers' eligibility to apply for Trade Adjustment Assistance (TAA) applicable to workers and former workers of Beacon Medical Services, LLC, Aurora, Colorado (Beacon Medical Services). The negative determination was issued on June 22, 2011. The Department's Notice of Determination was published in the Federal Register on July 8, 2011 (76 FR 40401). The workers of Beacon Medical Services are engaged in activities related to the supply of third party medical billing and coding services.

The petition filed on behalf of “medical coders” at Beacon Medical Services, LLC, Aurora, Colorado, states that “our jobs were outsourced to India.”

The negative determination was based on the Department's findings that Beacon Medical Services does not produce an article within the meaning of Section 222(a) or Section 222(b) of the Act. In order to be considered eligible to apply for adjustment assistance under Section 223 of the Trade Act of 1974, the worker group seeking certification (or on whose behalf certification is being sought) must work for a “firm” or appropriate subdivision that produces an article.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

After the Trade Act of 2009 expired in February 2011, petitions for TAA were instituted under the Trade Adjustment Assistance Reform Act of 2002 (Trade Act of 2002). Therefore, the statute applicable to TA-W-80,219 is the Trade Act of 2002. The applicable regulation is codified in 29 CFR Part 90, Subpart B.

Section 222 of the Trade Act of 2002 establishes the worker group eligibility requirements. The requirements include either “imports of articles like or directly competitive with articles produced by such firm or subdivision have increased” or “a shift in production by such workers' firm or subdivision to a foreign country of articles like or directly competitive with articles which are produced by such firm or subdivision.”

In the request for reconsideration, the petitioner asserts that Beacon Medical Services “sent our jobs OVESEAS TO INDIA.”

A shift in the supply of services (or like or directly competitive services) by Beacon Medical Services to a foreign country is not a basis for certification under the criteria set forth by the Trade Act of 2002.

After careful review of the request for reconsideration, previously submitted materials, the applicable statute, and relevant regulation, the Department determines that there is no new information, mistake in fact, or misinterpretation of the facts or of the law.

Conclusion

After review of the application and investigative findings, I conclude that there has been no error or misinterpretation of the law or of the facts which would justify reconsideration of the Department of Labor's prior decision. Accordingly, the application is denied.

Signed at Washington, DC, this 4th day of October, 2011.
Del Min Amy Chen,
Certifying Officer, Office of Trade Adjustment Assistance.

[FR Doc. 2011-27162 Filed 10-19-11; 8:45 am]

BILLING CODE 4510-FN-P